FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 5, 2016.

A. Federal Reserve Bank of Atlanta (Chapelle Davis, Assistant Vice President) 1000 Peachtree Street, NE., Atlanta, Georgia 30309. Comments can also be sent electronically to Applications.Comments@atl.frb.org:

1. William Stuart Perry, Howard Steven Perry, William Cavanagh Perry, Constance Ann Perry Thomas, Carrie Peighton Perry VanAusdall, and Edmond Lewis Perry, all of Nashville, Georgia, Sara Amelia Perry Parkerson, Greensboro, Georgia, and Justin Stuart Perry, Hilton Head, South Carolina; to retain voting shares of The Nashville Holding Company, and thereby indirectly retain voting shares of The Citizens Bank, both in Nashville, Georgia.

B. Federal Reserve Bank of Minneapolis (Jacquelyn K. Brunmeier, Assistant Vice President) 90 Hennepin Avenue, Minneapolis, Minnesota 55480-0291:

1. Dean M. Wehri, as a trustee/administrator of the Commercial Bank of Mott Employee Stock Ownership Plan and Trust, both of Mott, North Dakota; to acquire voting shares of Commercial Bank of Mott Employee Stock Ownership Plan and Trust, and thereby indirectly acquire voting shares of Commercial Bank of Mott, both in Mott, North Dakota.

Board of Governors of the Federal Reserve System, April 15, 2016.
Margaret McCloskey Shanks,
Deputy Secretary of the Board.

[FR Doc. 2016-09124 Filed 4-19-16; 8:45 am]

BILLING CODE 6210-01-P